DEPARTMENT OF COMMERCE

National Oceanic and Atmospheric Administration

RIN 0648-XP70

Fisheries in the Western Pacific; Amended Marine Conservation Plan for Pacific Insular Areas; Western Pacific Sustainable Fisheries Fund

AGENCY: National Marine Fisheries Service (NMFS), National Oceanic and Atmospheric Administration (NOAA), Commerce.

ACTION: Notice of agency decision.

SUMMARY: NMFS announces approval of an amended marine conservation plan (MCP) for Pacific Insular Areas other than American Samoa, Guam, and the Northern Mariana Islands.

DATES: This agency decision is effective April 11, 2008, through April 10, 2011.

ADDRESSES: Copies of the MCP are available from the Western Pacific Fishery Management Council (Council), 1164 Bishop St., Suite 1400, Honolulu, HI 96813, tel 808-522-8220, fax 808-522-8226.

FOR FURTHER INFORMATION CONTACT: Jarad Makaiau, Sustainable Fisheries, NMFS Pacific Islands Regional Office, 808-944-2108.

SUPPLEMENTARY INFORMATION: Under Section 204(e) of the Magnuson-Stevens Fishery Conservation and Management Act (Magnuson-Stevens Act), the Secretary of State, with the concurrence of the Secretary of Commerce (Secretary) and in consultation with the Council, may negotiate and enter into a Pacific Insular Area fishery agreement (PIAFA) to allow foreign fishing within the U.S. Exclusive Economic Zone (EEZ) adjacent to any Pacific Insular Area other than American Samoa, Guam or the Northern Mariana Islands, which, by definition, does not include the State of Hawaii. Before entering into a PIAFA, the Council must develop a three-year Marine Conservation Plan (MCP) providing details on uses for any funds collected by the Secretary under the PIAFA.

The Magnuson-Stevens Act authorizes that any payments received under a PIAFA, in support of conservation and management objectives in an MCP, shall be deposited into the Western Pacific Sustainable Fisheries Fund (Fund) for use by the Council. Amounts received by the Secretary attributable to fines and penalties imposed under the Magnuson-Stevens Act for violations by foreign vessels occurring within the EEZ off any Pacific Insular Area (other than American Samoa, Guam or the Northern Mariana Islands) shall also be deposited into the Fund for use by the Council.

An MCP must be consistent with the Council's fishery management plans, must identify conservation and management objectives (including criteria for determining when such objectives have been met), and must prioritize planned marine conservation projects. Although no foreign fishing is contemplated at this time, the Council developed an MCP for the Pacific Insular Areas, here defined as the U.S. EEZ around Johnston and Palmyra Atoll, Kingman Reef and Jarvis, Howland, Baker, and Wake Islands. These areas are sometimes known as the Pacific remote island areas.

In August 2007, the Council approved an MCP for the Pacific Insular Area and recommended its submission to the Secretary for approval. NMFS, as designee of the Secretary, received the MCP on November 6, 2007. That MCP, dated August 27, 2007, satisfied the requirements of Magnuson-Stevens Act Section 204(e), and was approved for the three-year period April 11, 2008, through April 10, 2011 (73 FR 21111; April 18, 2008).

At its 144th meeting in March 2009, the Council approved amendments to the MCP. On April 3, 2009, the Council submitted to NMFS the amended MCP, dated March 2009, for approval. The amended MCP revises the previously-approved August 2007 MCP by streamlining the descriptions of the projects associated with the MCP's conservation and management objectives, and also includes evaluative criteria for each program or project.

The amended MCP contains seven conservation and management objectives, listed below. These objectives are based upon the Council's guiding principles and five year Program Plan, and are consistent with the Council's fishery management plans:

1. Support quality research and obtain the most complete scientific information available to assess and manage fisheries;

2. Promote an ecosystem approach in fisheries management, including reducing waste in fisheries and minimizing impacts on marine habitat and impacts on protected species;

3. Conduct education and outreach to foster good stewardship principles and broad and direct public participation in the Council's decision making process;

4. Recognize the importance of island cultures and traditional fishing practices in managing fishery resources and foster opportunities for participation;

5. Promote responsible domestic fisheries development to provided long term economic growth and stability and local food production;

6. Promote regional cooperation to manage domestic and international fisheries; and

7. Encourage development of technologies and methods to achieve the most effective level of monitoring, control and surveillance and to ensure safety at sea.

The amended MCP identifies major task areas that include data collection and monitoring, fishery management, social economic research and assessment, policy development, protected species conservation, public outreach, media activities and products, meeting and event participation, workshops, plans and training, infrastructure development, etc. Projects are ranked in order of priority and would aid in fulfilling the Council's conservation and management objectives. The MCP also outlines a process by which the Council's Executive Committee could revisit the project ranking to adapt to changing management needs.

This notice announces that NMFS has determined that the amended MCP for the Western Pacific Sustainable Fisheries Fund satisfies the requirements of the Magnuson-Stevens Act and approves the amended MCP for the three-year period April 11, 2008, through April 10, 2011.

Dated: June 9, 2009.
Kristen C. Koch,
Acting Director, Office of Sustainable Fisheries, National Marine Fisheries Service.

[FR Doc. E9-14032 Filed 6-12-09; 8:45 am]

BILLING CODE 3510-22-S